DEPARTMENT OF ENERGY

Proposed Subsequent Arrangement

AGENCY: Office of Nonproliferation and Arms Control, Department of Energy.

ACTION: Proposed subsequent arrangement.

SUMMARY: This document is being issued under the authority of section 131a. of the Atomic Energy Act of 1954, as amended. The Department is providing notice of a proposed subsequent arrangement under the Agreement for Cooperation Concerning Civil Uses of Atomic Energy between the Government of the United States and the Government of Canada.

DATES: This subsequent arrangement will take effect no sooner than April 27, 2017.

FOR FURTHER INFORMATION CONTACT: Mr. Richard Goorevich, Office of Nonproliferation and Arms Control, National Nuclear Security Administration, Department of Energy. Telephone: 202-586-0589 or email: Richard.Goorevich@nnsa.doe.gov.

SUPPLEMENTARY INFORMATION: This subsequent arrangement concerns the alteration in form or content of 5 kg of U.S.-origin low enriched uranium (LEU) metal, 987.5 g of which is in the isotope of U-235 (19.75 percent enrichment) and which was exported to Canadian Nuclear Laboratories (CNL) among 100.095 kg of LEU containing 19.776 kg U-235. The LEU was exported for the LEU National Research Universal (NRU) Driver Fuel supply and will now be used for a Plate-Type Proof of Principle Project, the purpose of which is to demonstrate that CNL can fabricate plate-type fuel products to industry specifications and successfully irradiate those products. The material is currently in the original elemental uranium chemical and physical state. The final chemical and physical form of nuclear material will be two different types of miniature fuel plates: 1. U3Si2 dispersion in an aluminum matrix clad with an aluminum alloy; and 2. UA1x dispersion in an aluminum matrix clad with aluminum alloy. The material will be fabricated in the Nuclear Fuel Fabrication Facilities at Chalk River Laboratories (CRL), irradiated in the NRU Reactor and then Post Irradiation Examination (PIE) will take place in the Universal Cell at CRL.

In accordance with section 131a. of the Atomic Energy Act of 1954, as amended, it has been determined that this subsequent arrangement concerning the change of end-use of nuclear material of United States origin will not be inimical to the common defense and security of the United States of America.

Dated: March 22, 2017.
For the Department of Energy.
David Huizenga,
Acting Deputy Administrator, Defense Nuclear Nonproliferation.

[FR Doc. 2017-07387 Filed 4-11-17; 8:45 am]

BILLING CODE 6450-01-P